DEPARTMENT OF COMMERCE

National Oceanic and Atmospheric Administration

50 CFR Part 648

[Docket No. 150506428-5468-01]

RIN 0648-BF07

Atlantic Coastal Fisheries Cooperative Management Act Provisions; Jonah Crab Fishery; Control Date for Jonah Crab Fishery

AGENCY: National Marine Fisheries Service (NMFS), National Oceanic and Atmospheric Administration (NOAA), Commerce.

ACTION: Advance notice of proposed rulemaking (ANPR); request for comments.

SUMMARY: This notice announces a control date that may limit or restrict access into the Jonah crab fishery in Federal waters. This action is necessary to inform fishery participants that we are considering future action. We intend for this notice to promote awareness of possible future rulemaking, and discourage speculative entry into and/or investment in the Jonah crab fishery.

DATES: June 2, 2015 is established as the “control date” for the Jonah crab fishery, and may be used as a reference date for future management measures related to the Jonah crab fishery, consistent with applicable Federal laws and the Atlantic States Marine Fisheries Commission's recommendations. Written comments must be received on or before July 2, 2015.

ADDRESSES: You may submit comments on this document, identified by NOAA-NMFS-2015-0065 by any of the following methods:

Electronic Submission: Submit all electronic public comments via the Federal e-Rulemaking Portal. Go to www.regulations.gov/#!docketDetail;D=NOAA-NMFS-2015-0065, click the “Comment Now!” icon, complete the required fields, and enter or attach your comments.

Mail: Submit written comments to John K. Bullard, Regional Administrator, National Marine Fisheries Service, 55 Great Republic Drive, Gloucester, MA 01930. Mark the outside of the envelope, “Comments on Jonah crab Control Date.”

Instructions: Comments must be submitted by one of the above methods to ensure that the comments are received, documented, and considered. We may not consider comments sent by any other method, to any other address or individual, or received after the end of the comment period. All comments received are a part of the public record and will generally be posted for public viewing on www.regulations.gov without change. All personal identifying information (e.g., name, address, etc.) submitted voluntarily by the sender will be publicly accessible. Do not submit confidential business information, or otherwise sensitive or protected information. We will accept anonymous comments (enter “N/A” in the required fields if you wish to remain anonymous).

FOR FURTHER INFORMATION CONTACT: Allison Murphy, Fishery Policy Analyst, 978-281-9122.

SUPPLEMENTARY INFORMATION: Jonah crab (Cancer borealis), also known locally as rock crab, is not currently managed under Federal regulations or a coastwide Interstate Fishery Management Plan. Some individual Atlantic states do have management measures or permit requirements for Jonah crab. In May 2014, the Atlantic States Marine Fisheries Commission's American Lobster Management Board initiated the development of an Interstate Fishery Management Plan for Jonah Crab, throughout the species range within United States waters. The Board's development of a formal management plan was based on its concern about potential impacts to the Jonah crab resource with recent increases in landings. At its May 2015 meeting, the Board voted to approve a draft Jonah crab Interstate Fishery Management Plan for public comment. The draft Plan includes options for a limited access program for the fishery, such as an option that would limit Jonah crab fishing only to those fishermen who could document Jonah crab landings occurring before a certain date, known as a control date.

Also during the May 2015 meeting, the Commission requested that we establish a control date for the Jonah crab fishery that may be used to affect future participation in the Jonah crab fishery in Federal waters. The control date communicates to fishermen that participation and landing history after the date of publication may not be treated the same as participation and landings history that occurred prior to the control date. New entrants into the Jonah crab fishery after the control date could potentially be restricted from harvesting Jonah crab depending on the management options ultimately chosen by the Commission.

This notification establishes June 2, 2015 as a control date for potential use in determining historical or traditional participation for the Jonah crab fishery. Consideration of a control date does not commit us to develop any particular management program or criteria for participation in the fishery. We may choose a different control date; or may choose a management program that does not make use of such a date. We may also choose to take no further action to control entry or access to the Jonah crab fishery. Any action we take will be taken pursuant to the Atlantic Coastal Fisheries Cooperative Management Act, will be discussed at Commission and Board meetings, and will make have additional Federal rulemaking, including opportunity to comment.

This notification gives the public notice that interested Jonah crab fishery participants should locate and preserve records that substantiate and verify their participation in the fishery. This notification and control date do not impose any legal obligations, requirements, or expectation.

Authority: 16 U.S.C. 1801 et seq. and 16 U.S.C. 5101 et seq.

Dated: May 28, 2015.
Samuel D. Rauch III,
Deputy Assistant Administrator for Regulatory Programs, National Marine Fisheries Service.

[FR Doc. 2015-13408 Filed 6-1-15; 8:45 am]

BILLING CODE 3510-22-P